DEPARTMENT OF TRANSPORTATION

Federal Aviation Administration

14 CFR Part 39

[Docket No. FAA-2008-1119; Directorate Identifier 2008-NM-112-AD; Amendment 39-15800; AD 2009-02-10]

RIN 2120-AA64

Airworthiness Directives; Fokker F.28 Mark 0070 and 0100 Airplanes

AGENCY: Federal Aviation Administration (FAA), Department of Transportation (DOT).

ACTION: Final rule.

SUMMARY: We are superseding an existing airworthiness directive (AD) for the products listed above. This AD results from mandatory continuing airworthiness information (MCAI) originated by an aviation authority of another country to identify and correct an unsafe condition on an aviation product. The MCAI describes the unsafe condition as:

Several reports have been received about roll control problems due to frozen moisture on the aileron pulleys that are located in the LH [left-hand] and RH [right-hand] Main Landing Gear (MLG) wheel bays on the centre wing rear spar, under the wing to fuselage fairings. Investigation revealed that improper sealing of the aerodynamic seals of the Wing-to-Fuselage Fairings can cause rain-or washwater and de-icing fluids to leak onto the affected aileron pulleys. Exposure of the aileron pulleys to the leaked moisture in freezing condition can result in restricted aileron control movement (partly jammed) and/or higher control forces. This condition, if not corrected, could lead to partial loss of control of the aircraft. * * *

* * * * *

We are issuing this AD to require actions to correct the unsafe condition on these products.

DATES: This AD becomes effective April 2, 2009.

The Director of the Federal Register approved the incorporation by reference of a certain publication listed in this AD as of April 2, 2009.

The Director of the Federal Register approved the incorporation by reference of a certain other publication listed in this AD as of April 3, 2008 (73 FR 10650, February 28, 2008).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on October 30, 2008 (73 FR 64571) and proposed to supersede AD 2008-04-22, Amendment 39-15394 (73 FR 10650, February 28, 2008). That NPRM proposed to correct an unsafe condition for the specified products. The MCAI states:

Several reports have been received about roll control problems due to frozen moisture on the aileron pulleys that are located in the LH [left-hand] and RH [right-hand] Main Landing Gear (MLG) wheel bays on the centre wing rear spar, under the wing to fuselage fairings. Investigation revealed that improper sealing of the aerodynamic seals of the Wing-to-Fuselage Fairings can cause rain-or washwater and de-icing fluids to leak onto the affected aileron pulleys. Exposure of the aileron pulleys to the leaked moisture in freezing condition can result in restricted aileron control movement (partly jammed) and/or higher control forces. This condition, if not corrected, could lead to partial loss of control of the aircraft. To address this unsafe condition, Fokker Services originally introduced SBF100-53-101 which was made mandatory through CAA Netherlands (CAA-NL) AD NL-2005-013 [which corresponds to FAA AD 2008-04-22] with a compliance time of 12 months after November 1, 2005.

Following this, new reports of problems due to freezing moisture in the same area have been received. This has prompted Fokker Services to publish SBF100-53-107, which introduces an additional one-time inspection [for deviations] of the aerodynamic seals of the Wing-to-Fuselage Fairings and the application of an improved sealing of the aerodynamic seal by means of a fillet seam between the upper left and right fairings and the fuselage skin.

For the reasons described above, this EASA AD supersedes CAA-NL AD NL-2005-013 and requires an additional one-time inspection [for deviations] and application of improved sealing.

This action retains the inspection in AD 2008-04-22. Doing the additional inspection terminates the requirement to do the inspection required by the existing AD. The additional inspection for deviations includes inspecting for fit between the left-hand and right-hand wing-to-fuselage fairings and the fuselage skin; inspecting for damage to the aerodynamic seal on the fairings; inspecting for fit of the aerodynamic seal to the fuselage; and doing related investigative and corrective actions if necessary. The related investigative actions include inspecting the aerodynamic seal for damage (including wear); inspecting the abrasion resistant coating for damage (including wear); and re-inspecting for fit. The corrective actions include installing a new seal, restoring the protective coating, correcting the position of the fairing, and sealing the gaps between the fairings and the surrounding structure. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect about 7 products of U.S. registry. We also estimate that it will take about 3 work-hours per product to comply with the basic requirements of this AD. The average labor rate is $80 per work-hour. Based on these figures, we estimate the cost of this AD to the U.S. operators to be $1,680, or $240 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15394 (73 FR 10650, February 28, 2008) and adding the following new AD:

2009-02-10 Fokker Services B.V.: Amendment 39-15800. Docket No. FAA-2008-1119; Directorate Identifier 2008-NM-112-AD.

Effective Date

(a) This airworthiness directive (AD) becomes effective April 2, 2009.

Affected ADs

(b) This AD supersedes AD 2008-04-22, Amendment 39-15394.

Applicability

(c) This AD applies to Fokker Model F.28 Mark 0070 and 0100 airplanes, certificated in any category.

Subject

(d) Air Transport Association (ATA) of America Code 53: Fuselage.

Reason

(e) The mandatory continuing airworthiness information (MCAI) states:

Several reports have been received about roll control problems due to frozen moisture on the aileron pulleys that are located in the LH [left-hand] and RH [right-hand] Main Landing Gear (MLG) wheel bays on the centre wing rear spar, under the wing to fuselage fairings. Investigation revealed that improper sealing of the aerodynamic seals of the Wing-to-Fuselage Fairings can cause rain-or washwater and de-icing fluids to leak onto the affected aileron pulleys. Exposure of the aileron pulleys to the leaked moisture in freezing condition can result in restricted aileron control movement (partly jammed) and/or higher control forces. This condition, if not corrected, could lead to partial loss of control of the aircraft. To address this unsafe condition, Fokker Services originally introduced SBF100-53-101 which was made mandatory through CAA Netherlands (CAA-NL) AD NL-2005-013 [which corresponds to FAA AD 2008-04-22] with a compliance time of 12 months after November 1, 2005.

Following this, new reports of problems due to freezing moisture in the same area have been received. This has prompted Fokker Services to publish SBF100-53-107, which introduces an additional one-time inspection [for deviations] of the aerodynamic seals of the Wing-to-Fuselage Fairings and the application of an improved sealing of the aerodynamic seal by means of a fillet seam between the upper left and right fairings and the fuselage skin.

For the reasons described above, this EASA AD supersedes CAA-NL AD NL-2005-013 and requires an additional one-time inspection [for deviations] and application of improved sealing.

This action retains the inspection in AD 2008-04-22. Doing the additional inspection terminates the requirement to do the inspection required by the existing AD. The additional inspection for deviations includes inspecting for fit between the left-hand and right-hand wing-to-fuselage fairings and the fuselage skin; inspecting for damage to the aerodynamic seal on the fairings; inspecting for fit of the aerodynamic seal to the fuselage; and doing related investigative and corrective actions if necessary. The related investigative actions include inspecting the aerodynamic seal for damage (including wear); inspecting the abrasion resistant coating for damage (including wear); and re-inspecting for fit. The corrective actions include installing a new seal, restoring the protective coating, correcting the position of the fairing, and sealing the gaps between the fairings and the surrounding structure.

Restatement of Certain Requirements of AD 2008-04-22

(f) Unless already done: Within 12 months after April 3, 2008 (the effective date of AD 2008-04-22), inspect the wing-to-fuselage fairings for indications of incorrect fit, damage, or wear, in accordance with the Accomplishment Instructions of Fokker Service Bulletin SBF100-53-101, dated September 30, 2005 (“the service bulletin”). Doing the inspection required by paragraph (g) of this AD terminates the actions required by this paragraph.

(1) If no indications of incorrect fit, damage, or wear are found, no further action is required by this paragraph.

(2) If any incorrect fit, damage, or wear is found, before next flight, do related investigative actions and applicable corrective actions in accordance with the Accomplishment Instructions of the service bulletin.

New Requirements of This AD: Actions and Compliance

(g) Unless already done: Within 12 months after the effective date of this AD, inspect for deviations of the aerodynamic seal of the wing-to-fuselage fairings and the fuselage skin, do all applicable related investigative and corrective actions, and apply a fillet seam between the fairings and the fuselage skin, in accordance with the Accomplishment Instructions of Fokker Service Bulletin SBF100-53-107, dated February 26, 2008. Do all applicable related investigative and corrective actions before further flight. Accomplishment of this inspection terminates the actions required by paragraph (f) of this AD.

FAA AD Differences

Note 1: This AD differs from the MCAI and/or service information as follows:

No differences.

Other FAA AD Provisions

(h) The following provisions also apply to this AD:

(1) Alternative Methods of Compliance (AMOCs): The Manager, ANM-116, International Branch, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(i) Refer to MCAI European Aviation Safety Agency Airworthiness Directive 2008-0079, dated April 24, 2008; Fokker Service Bulletin SBF100-53-101, dated September 30, 2005; and Fokker Service Bulletin SBF100-53-107, dated February 26, 2008; for related information.

Material Incorporated by Reference

(j) You must use Fokker Service Bulletin SBF100-53-101, dated September 30, 2005; and Fokker Service Bulletin SBF100-53-107, dated February 26, 2008; as applicable; to do the actions required by this AD, unless the AD specifies otherwise.

(1) The Director of the Federal Register approved the incorporation by reference of Fokker Service Bulletin SBF100-53-107, dated February 26, 2008, under 5 U.S.C. 552(a) and 1 CFR part 51.

(2) The Director of the Federal Register previously approved the incorporation by reference of Fokker Service Bulletin SBF100-53-101, dated September 30, 2005, on April 3, 2008 (73 FR 10650, February 28, 2008).

(3) For service information identified in this AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com.

(4) You may review copies of the service information that is incorporated by reference at the FAA, Transport Airplane Directorate, 1601 Lind Avenue SW., Renton, Washington. For information on the availability of this material at the FAA, call 425-227-1221 or 425-227-1152.

(5) You may also review copies of the service information at the National Archives and Records Administration (NARA). For information on the availability of this material at NARA, call 202-741-6030, or go to: http://www.archives.gov/federal_register/code_of_federal_regulations/ibr_locations.html .

Issued in Renton, Washington, on January 15, 2009.
Ali Bahrami,
Manager, Transport Airplane Directorate, Aircraft Certification Service.

[FR Doc. E9-3365 Filed 2-25-09; 8:45 am]

BILLING CODE 4910-13-P